POSTAL REGULATORY COMMISSION

[Docket No. MC2012-26; Order No. 1401]

Post Office Box Service Enhancements

AGENCY: Postal Regulatory Commission.

ACTION: Notice.

SUMMARY: The Commission is noticing a recently-filed Postal Service pleading concerning service enhancements introduced at certain competitive post office box locations. This notice addresses procedural steps associated with the filing.

DATES: Comments are due: July 31, 2012; Reply Comments are due: August 8, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION:

Table of Contents

I. Introduction

II. Notice of Filings

III. Ordering Paragraphs

I. Introduction

In Docket No. C2012-1, the Associated Mail and Parcel Centers, the National Alliance of Retail and Ship Centers, and 11 additional organizations (Complainants) jointly filed a complaint with the Commission concerning the Postal Service's introduction of enhanced services that it offers to post office box customers at certain retail locations.¹ The Postal Service filed a motion to dismiss the Complaint.²

¹ Complaint Regarding Postal Service Offering Enhanced Services Product for Competitive PO Boxes, March 15, 2012 (Complaint).

² Motion of the United States Postal Service to Dismiss Complaint, April 4, 2012 (Motion to Dismiss).

In Order No. 1366, the Commission denied the Motion to Dismiss as to Complainants' claims under sections 3633 and 3642, and gave the Postal Service the option of making an elective filing under 39 CFR 3020.30, concerning the enhancements to its competitive Post Office Box service.³ The Commission ordered that the Complaint be held in abeyance until July 9, 2012, to permit the Postal Service to make the elective filing. This docket was established as a placeholder for the Postal Service's elective filing. Id.

³ Docket No. C2012-1, Order on Motion to Dismiss Holding Complaint in Abeyance Pending Further Proceeding, June 13, 2012, at 15 (Order No. 1366).

On July 9, 2012, pursuant to 39 CFR 3020.30 et seq., the Postal Service filed an elective pleading designed to provide the Commission with additional information to aid in its review of service enhancements that the Postal Service introduced at certain competitive post office box locations.⁴ The Response, which summarizes the procedural history of the proceeding, includes three attachments. Attachment A discusses the service enhancements' compliance with the requirements listed in 39 CFR 3020.31. Attachment B provides a statement of supporting justification addressing the criteria set forth in 39 CFR 3020.32. Attachment C is a copy of the customer agreement for Post Office Box service which describes the service enhancements and explains the customer's responsibilities.

⁴ Response of the United States Postal Service to Order No. 1366, July 9, 2012 (Response).

II. Notice of Filings

Pursuant to Commission Order No. 1366, Docket No. MC2012-26 has been established to consider the Postal Service's filing under 39 CFR 3020.30.

Interested persons may submit comments on issues raised by the Response, including its consistency with the policies of 39 U.S.C. 3633 and 3642, 39 CFR 3015.4, and 39 CFR part 3020, subpart B. Comments are due no later than July 31, 2012. Reply comments may be filed no later than August 8, 2012.

The Response and all filings in this proceeding and Docket No. C2012-1 can be accessed via the Commission's Web site (http://www.prc.gov).

The Commission appoints Robert N. Sidman to serve as Public Representative in these dockets.

III. Ordering Paragraphs

It is ordered:

1. Comments concerning the Postal Service's filing are due no later than July 31, 2012.

2. Reply comments are due no later than August 8, 2012.

3. Pursuant to 39 U.S.C. 505, Robert N. Sidman is appointed to serve as an officer of the Commission (Public Representative) to represent the interests of the general public in these proceedings.

4. The Secretary shall arrange for publication of this order in the Federal Register.

By the Commission.
Ruth Ann Abrams,
Acting Secretary.

[FR Doc. 2012-17457 Filed 7-17-12; 8:45 am]

BILLING CODE 7710-FW-P